DEPARTMENT OF COMMERCE

International Trade Administration

[A-570-053]

Certain Aluminum Foil From the People's Republic of China: Preliminary Results of Antidumping Duty Administrative Review, Preliminary Determination of No Shipments, and Partial Rescission; 2017-2019

AGENCY: Enforcement and Compliance, International Trade Administration, Department of Commerce.

SUMMARY: The Department of Commerce (Commerce) preliminarily finds that exporters of certain aluminum foil (aluminum foil) from the People's Republic of China (China) sold subject merchandise in the United States at prices below normal value during the period of review (POR) November 2, 2017 through March 31, 2019. We invite all interested parties to comment on these preliminary results.

DATES: Applicable June 24, 2020.

FOR FURTHER INFORMATION CONTACT: Chelsey Simonovich or Michael J. Heaney, AD/CVD Operations, Office VI, Enforcement and Compliance, International Trade Administration, U.S. Department of Commerce, 1401 Constitution Avenue NW, Washington, DC 20230; telephone: (202) 482-1979, or (202) 482-4475, respectively.

SUPPLEMENTARY INFORMATION:

Background

On June 13, 2019, Commerce initiated an administrative review of the antidumping duty order on aluminum foil from China,¹ in accordance with section 751(a) of the Tariff Act of 1930, as amended (the Act).² The administrative review covers two mandatory respondents: (1) Jiangsu Zhongji Lamination Materials Co., (HK) Ltd.; Jiangsu Zhongji Lamination Materials Stock Co., Ltd.; Jiangsu Zhongji Lamination Materials Co., Ltd.; and Jiangsu Huafeng Aluminum Industry Co., Ltd. (collectively, Zhongji),³ and (2) Xiamen Xiashun Aluminum Foil Co., Ltd. (Xiamen Xiashun). The administrative review also covers 10 other companies that were not selected for individual examination. For details regarding the events that occurred subsequent to the initiation of the review, see the Preliminary Decision Memorandum.⁴

¹ See Certain Aluminum Foil from the People's Republic of China: Amended Final Determination of Sales at Less Than Fair Value and Antidumping Duty Order, 83 FR 17362 (April 19, 2018) (Order).

² See Initiation of Antidumping and Countervailing Duty Administrative Reviews, 84 FR 27587 (June 13, 2019) (Initiation Notice).

³ In the less-than-fair-value (LTFV) investigation, we collapsed Jiangsu Zhongji Lamination Materials Co., (HK) Ltd.; Jiangsu Zhongji Lamination Materials Stock Co., Ltd.; Jiangsu Zhongji Lamination Materials Co., Ltd.; and Jiangsu Huafeng Aluminum Industry Co., Ltd. as a single entity. See Antidumping Duty Investigation of Certain Aluminum Foil from the People's Republic of China: Affirmative Preliminary Determination of Sales at Less-Than-Fair Value and Postponement of Final Determination, 82 FR 50858 (November 2, 2017), and accompanying Preliminary Decision Memorandum at 16-18, unchanged in Certain Aluminum Foil From the People's Republic of China: Final Determination of Sales at Less Than Fair Value, 83 FR 9282 (March 5, 2018). We find that record evidence in this administrative review supports continuing to treat these companies as a single entity. See Memorandum, “Zhongji Analysis for the Preliminary Results,” dated concurrently with this notice.

⁴ See Memorandum, “Decision Memorandum for the Preliminary Results of the Antidumping Duty Administrative Review of Certain Aluminum Foil from the People's Republic of China; 2018-2019,” dated concurrently with, and hereby adopted by, this notice (Preliminary Decision Memorandum).

Pursuant to section 751(a)(3)(A) of the Act, Commerce determined that it was not practicable to complete the preliminary results of this review within the 245 days and postponed the preliminary results by 120 days.⁵ On April 24, 2020, Commerce tolled all deadlines in administrative reviews by 50 days, thereby extending the deadline for these results until June 18, 2020.⁶

⁵ See Memorandum, “Aluminum Foil from the People's Republic of China: Extension of Time Limit Deadline for Preliminary Results of Antidumping Duty Administrative Review,” dated December 18, 2019; see also Memorandum, “Certain Aluminum Foil from the People's Republic of China: Extension of Time Limit Deadline for Preliminary Results of Antidumping Duty Administrative Review,” dated March 13, 2020.

⁶ See Memorandum, “Tolling of Deadlines for Antidumping and Countervailing Duty Administrative Reviews in Response to Operational Adjustments Due to COVID-19,” dated April 24, 2020.

Scope of the Order

The merchandise covered by this administrative review is aluminum foil from China. For a complete description of the scope of the Order, see the Preliminary Decision Memorandum.⁷

⁷ See Preliminary Decision Memorandum at 4.

Methodology

Commerce is conducting this review in accordance with section 751(a)(1)(B) of the Act. We calculated export prices in accordance with section 772 of the Act. Because China is a non-market economy (NME) within the meaning of section 771(18) of the Act, normal value has been calculated in accordance with section 773(c) of the Act.

For a full description of the methodology underlying our conclusions, see the Preliminary Decision Memorandum. A list of the topics included in the Preliminary Decision Memorandum is included at the Appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at http://enforcement.trade.gov/frn/. The signed and electronic versions of the Preliminary Decision Memorandum are identical in content.

Separate Rates

Commerce preliminarily determines that information placed on the record by Zhongji; Xiamen Xiashun; Alcha International Holdings Limited; Dingsheng Aluminum Industries Hong Kong Trading Co.; Granges Aluminum (Shanghai) Co., Ltd; Hangzhou Dingsheng Import & Export Co., Ltd.; Hunan Suntown Marketing Limited; Jiangsu Alcha Aluminum Co., Ltd.; Shanghai Shenyan Packaging Materials Co.; SNTO International Trade Limited; and Suzhou Manakin Aluminum Processing Technology Co., Ltd. demonstrates that these entities are entitled to separate rate status.⁸ For additional information, see the Preliminary Decision Memorandum.

⁸ See Preliminary Decision Memorandum at 6-9.

Preliminary Determination of No Shipments

One company that received a separate rate in previous segments of this proceeding and is subject to this review reported that it did not have any exports of subject merchandise during the POR.⁹ To date, we have not received any contrary information from either U.S. Customs and Border Protection (CBP) in response to our inquiry or any other sources that this company had any shipments of the subject merchandise sold to the United States during the POR.¹⁰ Further, consistent with our practice in NME cases, we find that it is not appropriate to rescind the review with respect to this company but, rather, to complete the review and issue appropriate instructions to CBP based on the final results of review.¹¹

⁹ See Jiangsu Dingsheng New Materials Joint-Stock Co., Ltd.'s Letter, “No Shipment Letter for Jiangsu Dingsheng in the Administrative Review of the Antidumping Duty Order on Aluminum Foil from the People's Republic of China,” dated July 12, 2019.

¹⁰ See Memorandum, “No Shipment Inquiry with Respect to the Companies Below During the Period 11/02/2017 through 03/31/2019,” dated May 28, 2020.

¹¹ See Non-Market Economy Antidumping Proceedings: Assessment of Antidumping Duties, 76 FR 65694, 65694-95 (October 24, 2011).

China-Wide Entity

Commerce's policy regarding conditional review of the China-wide entity applies to this administrative review.¹² Under this policy, the China-wide entity will not be under review unless a party specifically requests, or Commerce self-initiates, a review of the entity. Because no party requested a review of the China-wide entity in this review, the entity is not under review and the entity's rate (i.e., 105.80 percent) is not subject to change.¹³

¹² See Antidumping Proceedings: Announcement of Change in Department Practice for Respondent Selection in Antidumping Duty Proceedings and Conditional Review of the Nonmarket Economy Entity in NME Antidumping Duty Proceedings, 78 FR 65963 (November 4, 2013).

¹³ See Order, 83 FR at 17363.

Partial Rescission of Review

Section 351.213(d)(1) of Commerce's regulations provides that Commerce will rescind an administrative review, in whole or in part, if the party that requested the review withdraws its request for review within 90 days of the date of publication of the notice of initiation of the requested review. Commerce published the initiation of this administrative review on June 13, 2019.¹⁴

¹⁴ See Initiation Notice.

On September 11, 2019, the Aluminum Association Trade Enforcement Working Group and its individual members ¹⁵ withdrew its review request for the following companies: (1) Alcha International Holdings Limited; (2) Baotou Alcha Aluminum Co., Ltd.; (3) Guangxi Baise Xinghe Aluminum Industry Co., Ltd.; (4) Hangzhou Five Star Aluminum Co., Ltd.; (5) Hangzhou Teemful Aluminum Co., Ltd.; (6) Huafon Nikkei Aluminum Co., Ltd.; (7) Jiangsu Alcha Aluminum Corporation; (8) Jiangsu Dolphin Pack Co.; (9) Luoyang Longding Aluminum Industries Co., Ltd.; (10) Suntown Technology Group Limited; (11) Walson (HK) Trading Co., Limited; (12) Yuntai Donghai Aluminum Foil Co., Limited; (13) Yuntai Jintai International Trade Co., Ltd; (14) Yinbang Clad; and (15) Zhejiang Zhongjin.¹⁶ Because the review requests for each of the 15 companies named above have been timely withdrawn and because no other party has requested a review of these companies, we are rescinding this review with respect to these 15 companies.

¹⁵ The individual members of the Aluminum Association Trade Enforcement Working Group are: JW Aluminum Company, Novelis Corporation, and Reynolds Consumer Products LLC.

¹⁶ See Aluminum Trade Enforcement Working Group's Letter, “1st Administrative Review of the Antidumping Duty Order on Certain Aluminum Foil from the People's Republic of China—Petitioner's Partial Withdrawal of Review Requests,” dated September 11, 2019.

Adjustments for Export Subsidies

Commerce has preliminarily adjusted Zhongji's and Xiamen Xiashun's U.S. prices for export subsidies, pursuant to section 772(c)(1)(C) of the Act.

Preliminary Results of the Review

Commerce preliminarily determines that the following weighted-average dumping margins exist for the period November 2, 2017 through March 31, 2019:

Exporter | Weighted-average margin (percent)
Jiangsu Zhongji Lamination Materials Co., (HK) Ltd./Jiangsu Zhongji Lamination Materials Stock Co., Ltd./Jiangsu Zhongji Lamination Materials Co., Ltd./Jiangsu Huafeng Aluminum Industry Co., Ltd | 0.00
Xiamen Xiashun Aluminum Foil Co., Ltd | 106.21
Alcha International Holdings Limited | 106.21
Dingsheng Aluminum Industries Hong Kong Trading Co | 106.21
Granges Aluminum (Shanghai) Co., Ltd | 106.21
Hangzhou Dingsheng Import & Export Co., Ltd | 106.21
Hunan Suntown Marketing Limited | 106.21
Jiangsu Alcha Aluminum Co., Ltd | 106.21
Shanghai Shenyan Packaging Materials Co | 106.21
SNTO International Trade Limited | 106.21
Manakin Aluminum Processing Technology Co., Ltd | 106.21

For the respondents which are eligible for a separate rate, but not selected for individual examination in this administrative review, we have assigned a margin based on the weighted-average dumping margin calculated for Xiamen Xiashun, the only mandatory respondent with a margin that is not zero, de minimis, or based entirely on adverse facts available, consistent with section 735(c)(3)(A) of the Act.

Disclosure and Public Comment

Commerce intends to disclose the calculations performed for these preliminary results to the parties within five days of the date of publication of this notice, in accordance with 19 CFR 351.224(b). Pursuant to 19 CFR 351.309(c), interested parties may submit case briefs no later than 30 days after the date of publication of this notice. Rebuttal briefs, the content of which is limited to issues raised in the case briefs, may be filed no later than seven days after the date for filing case briefs.¹⁷ Parties who submit case briefs or rebuttal briefs in this proceeding are encouraged to submit with each argument: (1) A statement of the issue; (2) a brief summary of the argument; and (3) a table of authorities.¹⁸ Case and rebuttal briefs should be filed using ACCESS ¹⁹ and must be served on interested parties.²⁰ Executive summaries should be limited to five pages total, including footnotes. Note that Commerce has modified certain of its requirements for serving documents containing business proprietary information, until July 17, 2020, unless extended.²¹

¹⁷ See 19 CFR 351.309(d).

¹⁸ See 19 CFR 351.309(c)(2) and (d)(2).

¹⁹ See generally 19 CFR 351.303.

²⁰ See 19 CFR 351.303(f).

²¹ See Temporary Rule Modifying AD/CVD Service Requirements Due to COVID-19; Extension of Effective Period, 85 FR 29615 (May 18, 2020).

Pursuant to 19 CFR 351.310(c), interested parties who wish to request a hearing must submit a written request to the Assistant Secretary for Enforcement and Compliance, filed electronically via ACCESS. An electronically filed document must be received successfully in its entirety by 5:00 p.m. Eastern Time within 30 days after the date of publication of this notice. Requests should contain: (1) The party's name, address, and telephone number; (2) the number of participants; (3) whether any participant is a foreign national; and (4) a list of issues parties intend to discuss. Issues raised in the hearing will be limited to those raised in the respective case and rebuttal briefs.²² If a request for a hearing is made, Commerce intends to hold the hearing at a date and time to be determined.²³ Parties should confirm by telephone the date, time, and location of the hearing two days before the scheduled date.

²² See 19 CFR 351.310(c).

²³ See 19 CFR 351.310(d).

Unless otherwise extended, Commerce intends to issue the final results of this administrative review, which will include the results of its analysis of issues raised in any briefs, within 120 days of publication of these preliminary results, pursuant to section 751(a)(3)(A) of the Act and 19 CFR 351.213(h).

Assessment Rates

Upon issuance of the final results, Commerce shall determine, and CBP shall assess, antidumping duties on all appropriate entries covered by this review. If Zhongji's or Xiamen Xiashun's weighted-average dumping margin is not zero or de minimis (i.e., less than 0.50 percent) in the final results of this review, Commerce will calculate importer-specific assessment rates, in accordance with 19 CFR 351.212(b)(1).²⁴ For Zhongji and Xiamen Xiashun, Commerce intends to calculate an importer-specific per-unit assessment rate by dividing the amount of dumping for reviewed sales to the importer by the total sales quantity associated with those transactions. We will instruct CBP to assess antidumping duties on all appropriate entries covered by this review when the importer-specific assessment rate calculated in the final results of this review is not zero or de minimis. If Zhongji's or Xiamen Xiashun's weighted-average dumping margin is zero or de minimis, we will instruct CBP to liquidate the appropriate entries without regard to antidumping duties. In accordance with section 751(a)(2)(C) of the Act, the final results of this review shall be the basis for the assessment of antidumping duties on entries of merchandise covered by this review where applicable.

²⁴ See Antidumping Proceedings: Calculation of the Weighted Average Dumping Margin and Assessment Rate in Certain Antidumping Proceedings: Final Modification, 77 FR 8101 (February 14, 2012).

For entries that were not reported in the U.S. sales data submitted by companies individually examined during this review, Commerce will instruct CBP to liquidate such entries at the rate for the China-wide entity.²⁵ Additionally, if Commerce determines that an exporter under review had no shipments of the subject merchandise, any suspended entries that entered under that exporter's case number (i.e., at that exporter's cash deposit rate) will be liquidated at the rate for the China-wide entity.²⁶ We intend to issue instructions to CBP 15 days after the publication date of the final results of this review.

²⁵ See Non-Market Economy Antidumping Proceedings, 76 FR at 65694-95.

²⁶ Id.

Cash Deposit Requirements

The following cash deposit requirements will be effective for all shipments of the subject merchandise entered, or withdrawn from warehouse, for consumption on or after the publication date of the finals results of this administrative review, as provided by section 751(a)(2)(C) of the Act: (1) The cash deposit rate for Zhongji or Xiamen Xiashun will be the rate established in the final results of this review (except, if the ad valorem rate is de minimis, then the cash deposit rate will be zero); (2) for previously investigated or reviewed Chinese and non-Chinese exporters not listed above that have received a separate rate in a prior segment of this proceeding, the cash deposit rate will continue to be the existing exporter-specific cash deposit rate published for the most recently completed period; (3) for all Chinese exporters of subject merchandise that have not been found to be entitled to a separate rate, the cash deposit rate will be the rate for the China-wide entity; and (4) for all non-Chinese exporters of subject merchandise which have not received their own separate rate, the cash deposit rate will be the rate applicable to the Chinese exporter that supplied that non-Chinese exporter. These cash deposit requirements, when imposed, shall remain in effect until further notice.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

This administrative review and notice are issued and published in accordance with sections 751(a)(1) and 777(i)(1) of the Act, and 19 CFR 351.213 and 351.221(b)(4).

Dated: June 17, 2020.
Jeffrey I. Kessler,
Assistant Secretary for Enforcement and Compliance.

Appendix

List of Topics Discussed in the Preliminary Decision Memorandum

I. Summary

II. Background

III. Scope of the Order

IV. Preliminary Determination of No Shipments

V. Rescission of Review, In Part

VI. Discussion of the Methodology

VII. Recommendation

[FR Doc. 2020-13640 Filed 6-23-20; 8:45 am]

BILLING CODE 3510-DS-P